SOCIAL SECURITY ADMINISTRATION

Agency Information Collection Activities: Proposed Request and Comment Request

The Social Security Administration (SSA) publishes a list of information collection packages that will require clearance by the Office of Management and Budget (OMB) in compliance with Public Law (Pub. L.) 104-13, the Paperwork Reduction Act of 1995, effective October 1, 1995. The information collection packages that may be included in this notice are for new information collections, approval of existing information collections, revisions to OMB-approved information collections and extensions (no change) of OMB-approved information collections.

SSA is soliciting comments on the accuracy of the Agency's burden estimate; the need for the information; its practical utility; ways to enhance its quality, utility and clarity; and on ways to minimize the burden on respondents, including the use of automated collection techniques or other forms of information technology. Written comments and recommendations regarding the information collection(s) should be submitted to the OMB Desk Officer and the SSA Reports Clearance Officer. The information can be mailed, faxed or emailed to the individuals at the addresses and fax numbers listed below:

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

Integration Registration Services (IRES) System—20 CFR 401.45—0960-0626. The IRES System registers and authenticates individuals, businesses, organizations, entities and government agencies to use the eService Internet and telephone applications for requesting and exchanging business data with SSA, and issues them a User Identification Number (User ID) and a Password. Also, this process will verify the identity of individuals who use SSA's Business Services Online. Respondents are employers and third party submitters of wage data, business entities providing taxpayer identification information and data exchange partners conducting business in support of SSA programs.

Type of Request: Revision of an OMB-approved information collection.

Number of Respondents: 1,300,000.

Frequency of Response: 1.

Average Burden per Response: 2 minutes.

Estimated Annual Burden: 43,333 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. RSI/DI Quality Review Case Analysis: Sampled Number Holder, Auxiliaries/Survivors, Parents, and Stewardship Annual Earnings Test Workbook—0960-0189. SSA uses the information on forms SSA-2930, SSA-2931 and SSA-2932 to establish a national payment accuracy rate for all cases in payment status and to serve as a source of information regarding problem areas in the Retirement and Survivors Insurance (RSI) and Disability Insurance (DI) programs. SSA also uses this information to measure the accuracy rate for newly adjudicated RSI/DI cases.

SSA uses the information on form SSA-4659 to evaluate and determine the effectiveness of the annual earnings test and to use the results in developing ongoing improvements in the process. SSA will conduct a face-to-face interview with about 25% of the respondents who will receive one of the following letters for an appointment: SSA-L8550-U3 (Appointment Letter—Sample Individual), SSA-L8551-U3 (Appointment Letter—Sample Family), or the SSA-L8552-U3 (Appointment Letter—Representative Payee). SSA will conduct a telephone contact review with the other 75% of respondents who will receive either the SSA-L8553-U3 (Beneficiary Telephone Contact) or the SSA-L8554-U3 (Representative Payee Telephone Contact) notice. SSA encloses with the appointment letter the form SSA-8552 (Interview Confirmation) which the respondent must return to SSA to show that the appointment time is acceptable or to have SSA contact the respondent to set up a new appointment time. Finally, so that the beneficiary will be prepared for the interview, SSA also includes an SSA-85 (Information Needed to Review Your Social Security Claim) which lists the information the respondents will need to gather to prepare for the interview. The respondents are a statistically valid sample of all RSI/DI beneficiaries in current pay status or their representative payees.

Type of Request: Revision of an OMB-approved information collection.

Form No. | Annual responses | Frequency | Burden hours per response (minutes) | Total annual burden hours
SSA-2930 | 1,500 | 1 | 30 | 750
SSA-2931 | 750 | 1 | 30 | 375
SSA-2932 | 100 | 1 | 20 | 33
SSA-4659 | 325 | 1 | 10 | 54
SSA-L8550-U3 | 375 | 1 | 5 | 31
SSA-L8551-U3 | 90 | 1 | 5 | 8
SSA-L8552-U3 | 30 | 1 | 5 | 3
SSA-L8553-U3 | 1,690 | 1 | 5 | 141
SSA-L8554-U3 | 165 | 1 | 5 | 14
SSA-85 | 2,350 | 1 | 5 | 196
SSA-2935 | 2,350 | 1 | 5 | 196
Totals | 9,725 |  |  | 1,997

2. Modified Benefit Formula Questionnaire—0960-0395. The purpose of the Windfall Elimination Provision of the Social Security Act is to remove an unintended advantage in the computation of Social Security benefits for persons who have substantial pensions from non-covered employment. The SSA-150 collects the information needed to determine the correct formula to use in computing Social Security benefits. The respondents are claimants for Social Security benefits who are entitled to both benefits.

Type of Request: Extension of OMB approved information collection.

Number of Respondents: 90,000.

Frequency of Response: 1.

Average Burden per Response: 8 minutes.

Estimated Annual Burden: 12,000 hours.

Dated: February 21, 2008.
Elizabeth A. Davidson,
Reports Clearance Officer, Social Security Administration.

[FR Doc. E8-3682 Filed 2-26-08; 8:45 am]

BILLING CODE 4191-02-P